DEPARTMENT OF ENERGY

Federal Energy Regulatory Commission

[Project Nos. 2576-022 and 2597-019]

Northeast Generation Company, Connecticut; Notice of Intention to Hold Public Meetings for Discussion of the Draft Environmental Impact Statement for the Housatonic River Hydroelectric Project

July 31, 2003.

On July 11, 2003, the Commission staff mailed the Housatonic Project Draft Environmental Impact Statement (DEIS) to the U.S. Environmental Protection Agency, resource and management agencies, and interested organizations and individuals.

The DEIS was noticed in the Federal Register on July 18, 2003, and comments are due September 17, 2003. The DEIS evaluates the environmental consequences of the operation and maintenance of the five developments comprising the Housatonic River Project in Connecticut. About 74 acres within the project boundary are located on lands of the United States. The DEIS evaluates the environmental effects of implementing the applicant's proposals, agency and interested parties' recommendations, staff's recommendations, and the no-action alternative.

Two public meetings, which will be recorded by an official stenographer, are scheduled:

Date | Time | Location
Tuesday, August 19, 2003 | 7-9 p.m. | Northville Elementary School 22 Hipp Road, New Milford, CT 06776
Wednesday, August 20, 2003 | 7-9 p.m. | Housatonic Valley Regional High School, 246 Warren Turnpike Rd., Falls Village, CT 06031.

At these meetings, all interested persons and parties will have the opportunity to provide oral and written comments and recommendations regarding the DEIS, for the Commission's public record.

For further information, please contact Jack Duckworth, at (202) 502-6392, jack.duckworth@ferc.gov, Federal Energy Regulatory Commission, Office of Energy Projects, 888 First St. NE., DC 20426.

Linda Mitry,
Acting Secretary.

[FR Doc. 03-19995 Filed 8-5-03; 8:45 am]

BILLING CODE 6717-01-P